DEPARTMENT OF TRANSPORTATION

Federal Aviation Administration

Proposed [Preliminary] Airworthiness Criteria for Airworthiness Certification of Transport Category Airships

AGENCY: Federal Aviation Administration, DOT.

ACTION: Extension of comment period.

SUMMARY: This notice announces the extension of the comment period for the notice of availability and request for comments for the initiation of a Federal Aviation Administration (FAA) proposed airworthiness criteria for transport category airships. The FAA is extending the comment period to allow companies and individuals adequate time to complete their comments to the proposed criteria.

DATES: The comment period is being extended from February 5, 2002, to April 5, 2002.

ADDRESSES: Copies of the proposed airworthiness criteria for transport category airships may be requested from the following: Small Airplane Directorate, Standards Office (ACE-110), Aircraft Certification Service, Federal Aviation Administration, 901 Locust Street, Room 301, Kansas City, MO 64106. The proposed airworthiness criteria is available on the Internet at the following address: http://www.faa.gov/programs _ rsvp2/smart/faa_home_page/certification/ aircraft/small_airplane _ directorate_news_proposed.html.

Send all comments on the proposed airworthiness criteria for transport category airships to the individual identified under FOR FURTHER INFORMATION CONTACT.

FOR FURTHER INFORMATION CONTACT: Mike Reyer or Karl Schletzbaum, Federal Aviation Administration, Small Airplane Directorate, Regulations & Policy, ACE-111, 901 Locust Street, Room 301, Kansas City, Missouri 64106; telephone: (816) 329-4131 (M. Reyer); or (816) 329-4146 (K. Schletzbaum); fax: (816) 329-4090; e-mail: karl.schletzbaum@faa.gov or michael.reyer@faa.gov.

SUPPLEMENTARY INFORMATION: The FAA issued a notice of availability and request for comments on Proposed Airworthiness Criteria for Airworthiness Certification of Transport Category Airships on September 28, 2001 (66 FR 51090, October 5, 2001). The FAA is extending the comment period to give all interested persons the opportunity to comment on the proposed criteria.

Issued in Kansas City, Missouri on January 23, 2002.
Michael K. Dahl,
Acting Manager, Small Airplane Directorate, Aircraft Certification Service.

[FR Doc. 02-2630 Filed 2-4-02; 8:45 am]

BILLING CODE 4910-13-P